DEPARTMENT OF COMMERCE

International Trade Administration

Initiation of Antidumping and Countervailing Duty Administrative Reviews and Requests for Revocation in Part

AGENCY: Import Administration, International Trade Administration, Department of Commerce.

ACTION: Notice of Initiation of Antidumping and Countervailing Duty Administrative Reviews and Requests for Revocation in Part.

SUMMARY: The Department of Commerce (the Department) has received requests to conduct administrative reviews of various antidumping and countervailing duty orders and findings with August anniversary dates. In accordance with the Department's regulations, we are initiating those administrative reviews. The Department also received requests to revoke three antidumping duty orders in part.

EFFECTIVE DATE: October 1, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with August anniversary dates. The Department also received timely requests to revoke in part the antidumping duty orders for Pure Magnesium from Canada, Oil Country Tubular Goods from Mexico and Canned Pineapple from Thailand. The revocation request for Canned Pineapple from Thailand was inadvertently omitted from the initiation notice published on August 20, 2001 (66 FR 43570).

Initiation of Reviews

In accordance with sections 19 CFR 351.221(c)(1)(i), we are initiating administrative reviews of the following antidumping and countervailing duty orders and findings. We intend to issue the final results of these reviews not later than August 31, 2002.

| Period to be reviewed
Antidumping Duty Proceedings
Argentina: Oil Country Tubular Goods, A-357-810 | 8/1/00-7/31/01
Acindar Industria Argentina de Aceros, S.A.
Siderca, S.A.I.C.
Canada: Pure Magnesium, A-122-814 | 8/1/00-7/31/01
Magnola Metallurgy Inc.
Norsk Hydo Canada, Inc.
France: Industrial Nitrocellulose, A-427-009 | 8/1/00-7/31/01
Bergerac N.C.
France: Stainless Steel Sheet and Strip In Coils¹, A-427-814 | 7/1/00-6/30/01
Ugine S.A.
Italy: Granular Polytetrafluoroethylene (PTFE) Resin, A-475-703 | 8/1/00-7/31/01
Ausimont SpA
Japan: Oil Country Tubular Goods, A-588-835 | 8/1/00-7/31/01
Kawasaki Steel Corporation
Nippon Steel Corporation
NKK Steel Corporation
Sumitomo Metal Industries, Ltd.
Mexico: Carbon and Alloy Seamless Standard, Line, and Pressure Pipe (Over 4½ Inches), A-201-827 | 2/4/00-7/31/01
Tubos de Aceros de Mexico, S.A.
Mexico: Gray Portland Cement and Clinker, A-201-802 | 8/1/00-7/31/01
GCC Cementos, S.A. de C.V.
CEMEX, S.A. de C.V.
Apasco, S.A. de C.V.
Mexico: Oil Country Tubular Goods, A-201-817 | 8/1/00-7/31/01
Hylsa, S.A. de C.V.
Tubos de Acero de Mexico S.A.
Republic of Korea: Corrosion-Resistant Carbon Steel Flat Products, A-580-816 | 8/1/00-7/31/01
Dongbu Steel Co., Ltd.
Pohang Iron and Steel Co., Ltd.
Union Steel Manufacturing Co., Ltd.
Republic of Korea: Oil Country Tubular Goods, Other than Drill Pipe, A-580-825 | 8/1/00-7/31/01
SeAH Steel Corporation
Shinho Steel Co., Ltd.
Republic of Korea: Structural Steel Beams, A-580-841 | 2/11/00-7/31/01
INI Steel Company (formerly Inchon Iron & Steel Co., Ltd.)
Romania: Certain Small Diameter Carbon and Alloy Seamless Standard Line and Pressure Pipe, A-485-805 | 2/4/00-7/31/01
Silcotub, S.A.
Romania: Cut-to-Length Carbon Steel Plate, A-485-803 | 8/1/00-7/31/01
Sidex, S.A.
Taiwan: Stainless Steel Sheet and Strip in Coils², A-583-831 | 7/1/00-6/30/01
Chia Far Industrial Co., Ltd.
Ta Chen Stainless Pipe Co., Ltd.
Tung Mung Development Co., Ltd.
Yieh United Steel Corporation
The People's Republic of China: Petroleum Wax Candles³, A-570-504 | 8/1/00-7/31/01
Dongguan Fay Candle Company, Ltd.
The People's Republic of China: Sulfanilic Acid⁴, A-570-815 | 8/1/00-7/31/01
Boading Mancheng Zhenxing Chemical Plant
Xinyu Chemical Plant
Yude Chemical Industry, Co.
Zhenxing Chemical Industry, Co.
Thailand: Certain Carbon Steel Butt-Weld Pipe Fittings⁵, A-549-806 | 7/1/00-6/30/01
Thai Benkan Company, Ltd.
Countervailing Duty Proceedings
Canada: Alloy Magnesium, C-122-815 | 1/1/00-12/31/00
Magnola Metallurgy Inc.
Norsk Hydro Canada Inc.
Canada: Pure Magnesium, C-122-815 | 1/1/00-12/31/00
Magnola Metallurgy Inc.
Norsk Hydro Canada Inc.
France: Stainless Steel Sheet and Strip in Coils, C-427-815 | 1/1/00-12/31/00
Ugine S.A.
Republic of Korea: Stainless Steel Sheet and Strip in Coils, C-580-835 | 1/1/00-12/31/00
INI Steel Company (formerly Inchon Iron and Steel Co., Ltd.)
Sammi Steel Co.
Suspension Agreements
None.
¹ Case inadvertently omitted from previous initiation notice.
² Case inadvertently omitted from previous initiation notice.
³ If one of the above named companies does not qualify for a separate rate, all other exporters of petroleum wax candles from the People's Republic of China who have not qualified for a separate rate are deemed to be covered by this review as part of the single PRC entity of which the named exporters are a part.
⁴ If one of the above named companies does not qualify for a separate rate, all other exporters of sulfanilic acid from the People's Republic of China who have not qualified for a separate rate are deemed to be covered by this review as part of the single PRC entity of which the named exporters are a part.
⁵ In the initiation notice published on August 20, 2001 (66 FR 43570), the case number and review period for Certain Carbon Steel Butt-Weld Pipe Fittings from Thailand is incorrect. The correct case number and review period is listed above.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 24, 2001.
Holly A. Kuga,
Senior Office Director, Group II, Office 4 AD/CVD Enforcement.

[FR Doc. 01-24507 Filed 9-28-01; 8:45 am]

BILLING CODE 3510-DS-P